DEPARTMENT OF VETERANS AFFAIRS

Veterans' Disability Benefits Commission; Notice of Meeting

The Department of Veterans Affairs (VA) gives notice under Public Law 92-463 (Federal Advisory Committee Act) that the Veterans' Disability Benefits Commission has scheduled a meeting for May 9-11, 2007, at the Doubletree Hotel Washington, 1515 Rhode Island Avenue, NW., Washington, DC. On May 9-10, the sessions will begin at 8:30 a.m. and end at 5 p.m. each day. On May 11, the session will begin at 8:30 a.m. and end at 3 p.m. The meeting is open to the public.

The purpose of the Commission is to carry out a study of the benefits under the laws of the United States that are provided to compensate and assist veterans and their survivors for disabilities and deaths attributable to military service.

The agenda for the meeting will feature updates on the progress of the studies being conducted by the Center for Naval Analyses (CNA) and the Institute of Medicine (IOM). There will be additional discussions with CNA on topics of ongoing research and analyses, and the IOM Post Traumatic Stress Disorder Compensation Committee will provide an overview of its final report. The Commission will receive presentations on several draft Issue Papers in various stages of development and discuss the composition of sections of the Commission's final report.

Interest persons may attend and present oral statements to the Commission on May 9. Oral presentations will be limited to five minutes or less, depending on the number of participants. Interested parties may also provide written comments for review by the Commission prior to the meeting or at any time, by e-mail to veterans@vetscommission.com or by mail to Mr. Ray Wilburn, Executive Director, Veterans' Disability Benefits Commission, 1101 Pennsylvania Avenue, NW., 5th Floor, Washington, DC 20004.

Dated: April 24, 2007.
By Direction of the Secretary:
E. Philip Riggin,
Committee Management Officer.

[FR Doc. 07-2108 Filed 4-30-07; 8:45 am]

BILLING CODE 8320-01-M